DEPARTMENT OF COMMERCE

National Oceanic and Atmospheric Administration

[RTID 0648-XC578]

Research Track Assessment for Spiny Dogfish and Bluefish

AGENCY: National Marine Fisheries Service (NMFS), National Oceanic and Atmospheric Administration (NOAA), Commerce.

ACTION: Notice of public meeting.

SUMMARY: NMFS will convene the Research Track Assessment Peer Review Meeting for the purpose of reviewing Spiny Dogfish and Bluefish stocks. The Research Track Assessment Peer Review is a formal scientific peer-review process for evaluating and presenting stock assessment results to managers for fish stocks in the offshore U.S. waters of the northwest Atlantic. Assessments are prepared by the research track working group and reviewed by an independent panel of stock assessment experts from the Center of Independent Experts (CIE). The public is invited to attend the presentations and discussions between the review panel and the scientists who have participated in the stock assessment process.

DATES: The public portion of the Research Track Assessment Peer Review Meeting will be held from December 5, 2022—December 9, 2022. The meeting will conclude on December 9, 2022 at 5 p.m. Eastern Standard Time. Please see SUPPLEMENTARY INFORMATION for the daily meeting agenda.

ADDRESSES: The meeting will be held via WebEx at the following link: https://noaanmfs-meets.webex.com/noaanmfs-meets/j.php?MTID=m537714866febfc8ede459d55b0482239. Meeting number (access code): 2764 137 9769; Meeting password: AhFMe8W3DS5; Phone: +1-415-527-5035 US Toll.

FOR FURTHER INFORMATION CONTACT: Michele Traver, phone: 508-257-1642; email: michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about research track stock assessments, please visit the NEFSC web page at https://www.fisheries.noaa.gov/new-england-mid-atlantic/population-assessments/research-track-stock-assessments.

Daily Meeting Agenda—Research Track Peer Review Meeting

The agenda is subject to change; all times are approximate and may be changed at the discretion of the Peer Review Chair.

Monday, December 5, 2022
Time | Topic | Presenter(s) | Notes
9 a.m.-9:15 a.m | Welcome/Logistics, Introductions/Agenda/Conduct of Meeting | Michele Traver, Assessment Process Lead, Russ Brown, PopDy Branch Chief, Yan Jiao, Panel Chair
9:15 a.m.-9:30 a.m | Introduction/Executive Summary | Conor McManus (WG co-chair), (Spiny Dogfish)
9:30 a.m.-10 a.m | Term of Reference (TOR) #1 | Conor McManus | Ecosystem Data.
10 a.m.-10:30 a.m | TOR #3 | Cami McCandless (WG co-chair) | Survey Data.
10:30 a.m.-10:45 a.m | Break.
10:45 a.m.-11:45 a.m | TOR #2 | Kathy Sosebee | Catch Data.
11:45 a.m.-12:15 p.m | Discussion/Summary | Review Panel
12:15 p.m.-12:30 p.m | Public Comment | Public
12:30 p.m.-1:30 p.m | Lunch.
1:30 p.m.-2:30 p.m | TOR #4 | Dvora Hart, Jui-Han Chang | Models.
2:30 p.m.-3 p.m | End of Day Wrap-up/Discussion/Summary | Review Panel
3 p.m.-3:15 p.m | Public Comment | Public
3:15 p.m | Adjourn.

Tuesday, December 6, 2022
Time | Topic | Presenter(s) | Notes
9 a.m.-9:05 a.m | Welcome/Logistics, Introductions/Agenda | Michele Traver, Assessment Process Lead, Yan Jiao, Panel Chair.
9:05 a.m.-10:30 a.m | TOR #4 cont. | Dvora Hart, Jui-Han Chang | Models.
10:30 a.m.-10:45 a.m | Break.
10:45 a.m.-12 p.m | TORs #5 and #6 | Dvora Hart, Jui-Han Chang | Reference Points, Projections.
12 p.m.-12:30 p.m | Discussion/Summary | Review Panel.
12:30 p.m.-12:45 p.m | Public Comment | Public.
12:45 p.m.-1:45 p.m | Lunch.
1:45 p.m.-2:30 p.m | TOR #8 | Dvora Hart | Alternative Assessment Approach.
2:30 p.m.-2:45 p.m | TOR #7 | Conor McManus | Research Recommendations.
2:45 p.m.-3:15 p.m | End of Day Wrap-up/Discussion/Summary | Review Panel
3:15 p.m.-3:30 p.m | Public Comment | Public
3:30 p.m | Adjourn.

Wednesday, December 7, 2022
Time | Topic | Presenter(s) | Notes
9 a.m.-9:05 a.m | Welcome/Logistics, Introductions/Agenda | Michele Traver, Assessment Process Lead, Yan Jiao, Panel Chair
9:05 a.m.-9:30 a.m | Introduction/Executive Summary | Mike Celestino (WG chair), (Bluefish)
9:30 a.m.-10:30 a.m | TOR #2 | Mike Celestino, Katie Drew | Catch Data.
10:30 a.m.-10:45 a.m | Break.
10:45 a.m.-11:45 a.m | TOR #3 | Mike Celestino, Katie Drew | Survey Data.
11:45 a.m.-12:15 p.m | Discussion/Summary | Review Panel
12:15 p.m.-12:30 p.m | Public Comment | Public
12:30 p.m.-1:30 p.m | Lunch
1:30 p.m.-3 p.m | TOR #1 | Abby Tyrell, Sarah Gaichas | Ecosystem Data.
3 p.m.-3:30 p.m | End of Day Wrap-up/Discussion/Summary | Review Panel
3:30 p.m.-3:45 p.m | Public Comment | Public
3:45 p.m | Adjourn

Thursday, December 8, 2022
Time | Topic | Presenter(s) | Notes
9 a.m.-9:05 a.m | Welcome/Logistics, Introductions/Agenda | Michele Traver, Assessment Process Lead, Russ Brown, PopDy Branch Chief, Yan Jiao, Panel Chair
9:05 a.m.-10:30 a.m | TOR #4 | Tony Wood, Tim Miller | Models.
10:30 a.m.-10:45 a.m | Break.
10:45 a.m.-11:15 a.m | TOR #4 cont | Tony Wood, Tim Miller | Models.
11:15 a.m.-11:45 a.m | Discussion/Summary | Review Panel
11:45 a.m.-12 p.m. | Public Comment | Public
12 p.m.-1 p.m | Lunch.
1 p.m.-2:30 p.m | TORs #5, #6, #8, and #7 | Tony Wood, Sam Truesdell, Mike Celestino | Reference Points, Projections, Alternative Assessment Approach, Research Recommendations.
2:30 p.m.-3 p.m | Meeting Wrap-up/Discussion/Summary | Review Panel
3 p.m.-3:15 p.m | Public Comment | Public.
3:15 p.m | Adjourn.

Friday, December 9, 2022
Time | Topic | Presenter(s) | Notes
9 a.m.-5 p.m | Report Writing | Review Panel.

The meeting is open to the public; however, during the `Report Writing' session on Friday, December 9th, the public should not engage in discussion with the Peer Review Panel.

Special Accommodations

This meeting is physically accessible to people with disabilities. Special requests should be directed to Michele Traver, via email.

Authority: 16 U.S.C. 1801 et seq.

Dated: November 22, 2022.
Kelly Denit,
Director, Office of Sustainable Fisheries, National Marine Fisheries Service.

[FR Doc. 2022-25932 Filed 11-28-22; 8:45 am]

BILLING CODE 3510-22-P